ELECTION ASSISTANCE COMMISSION

Sunshine Act Notice

AGENCY: U.S. Election Assistance Commission.

ACTION: Notice of public meeting.

Date & Time: Wednesday, October 15, 2008, 1-4 p.m.

Place: National Press Club of Washington, 529 14th St., NW., 13th Floor, Washington, DC 20045, (202) 662-7500 (Metro Stop: Metro Center).

Agenda: Commissioners will meet and hold a panel discussion to examine key issues facing election officials and journalists in reporting election results, particularly in competitive states. Some of the topics include: (1) Voting systems technology; (2) non-traditional ballots such as provisional and absentee ballots and ballots of military and overseas citizens; (3) time and procedures for getting election results; (4) post-election issues such as recounts and audits; (5) time zones, poll closings and reporting exit polls and election results. Participants will include media representatives, state election officials and a discussion moderator.

This meeting will be open to the public.

Person to Contact for Information: Sarah Litton, Telephone: (202) 566-3100.

Rosemary E. Rodriguez,
Chair, U.S. Election Assistance Commission.

[FR Doc. E8-24360 Filed 10-8-08; 4:15 pm]

BILLING CODE 6820-KF-P